NATIONAL CREDIT UNION ADMINISTRATION

Agency Information Collection Activities: Submission to OMB for an Extension of a Currently Approved Collection; Comment Request

AGENCY: National Credit Union Administration (NCUA).

ACTION: Request for comment.

SUMMARY: The NCUA is submitting the following information collection to the Office of Management and Budget (OMB) for review and clearance under the Paperwork Reduction Act of 1995 (Pub. L. 104-13, 44 U.S.C. chapter 35). This information collection is published to obtain comments from the public.

DATES: Comments will be accepted until January 3, 2012.

ADDRESSES: Interested parties are invited to submit written comments to the NCUA or OMB contacts listed below:

NCUA Contact: Tracy Crews, National Credit Union Administration, 1775 Duke Street, Alexandria, VA 22314-3428, Fax No. (703) 837-2861, Email: OCIOMail@ncua.gov.

OMB Contact: Attn: Desk Officer for the National Credit Union Administration (NCUA), Office of Management and Budget, Office of Information and Regulatory Affairs, Washington, DC 20503.

FOR FURTHER INFORMATION CONTACT: Requests for additional information or a copy of the information collection request should be directed to Tracy Crews at the National Credit Union Administration, 1775 Duke Street, Alexandria, VA 22314-3428, or at (703) 518-6444.

SUPPLEMENTARY INFORMATION: Proposal for the following collection of information:

Title: Large Credit Union Financials and Board Packages.

OMB Number: 3133-0179.

Form Number: None.

Type of Review: Extension of a currently approved collection.

Description: The region needs the information to effectively monitor financial trends and emerging issues of federally insured credit unions (FICUs) $1 billion or greater between onsite visitations. These institutions present greater risk to the NCUSIF due to their asset size and complexity.

Respondents: Federally insured credit unions (FICUs) with $1 billion or greater in assets.

Estimated No. of Respondents/Record keepers: 35.

Estimated Burden Hours per Response: ½ hour (30 minutes).

Frequency of Response: Monthly.

Estimated Total Annual Burden Hours: 210 hours.

Estimated Total Annual Cost: 0.

By the National Credit Union Administration Board on October 26, 2011.
Mary Rupp,
Secretary of the Board.

[FR Doc. 2011-28180 Filed 10-31-11; 8:45 am]

BILLING CODE 7535-01-P